DEPARTMENT OF TRANSPORTATION

Federal Aviation Administration

14 CFR Part 71

[Docket No. FAA-2006-25788; Airspace Docket No. 06-ANM-9]

Revision of Class E Airspace; Hoquiam, WA

AGENCY: Federal Aviation Administration (FAA), DOT.

ACTION: Final rule.

SUMMARY: This action will revise Class E airspace at Hoquiam, WA. Controlled airspace is necessary to accommodate aircraft using the Area Navigation (RNAV) Global Positioning System (GPS) Standard Instrument Approach Procedure (SIAP) at Bowerman Airport. This will improve the safety of Instrument Flight Rules (IFR) aircraft at the Bowerman Airport, Hoquiam, WA.

DATES: Effective Date: 0901 UTC, October 25, 2007. The Director of the Federal Register approves this incorporation by reference action under 1 CFR part 51, subject to the annual revision of FAA Order 7400.9 and publication of conforming amendments.

FOR FURTHER INFORMATION CONTACT: Eldon Taylor, Federal Aviation Administration, Western Service Area Office, System Support Group, 1601 Lind Avenue, SW., Renton, WA 98057; telephone (425) 917-6726.

SUPPLEMENTARY INFORMATION:

History

On June 1, 2007, the FAA published in the Federal Register a notice of proposed rulemaking to establish Class E airspace at Hoquiam, WA, (72 FR 30499). This action would improve the safety of IFR aircraft at Bowerman Airport, Hoquiam, WA. Interested parties were invited to participate in this rulemaking effort by submitting written comments on the proposal to the FAA. No comments were received.

Class E airspace designations are published in paragraph 6005 of FAA Order 7400.9P dated September 1, 2006, and effective September 15, 2006, which is incorporated by reference in 14 CFR 71.1. The Class E airspace designations listed in this document will be published subsequently in that Order.

The Rule

This action amends Title 14 Code of Federal Regulations (14 CFR) part 71 by establishing Class E airspace at Hoquiam, WA. Additional controlled airspace is necessary to accommodate IFR aircraft at Bowerman Airport, Hoquiam, WA.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006 is amended as follows:

Paragraph 6002 Class E Airspace Areas Designated as a Surface Area.

* * * * *

ANM WA, E5 Hoquiam, WA [Revised]

Bowerman Airport, WA

(Lat. 46°58′16″ N., long. 123°56′12″ W.)

Hoquiam VORTAC

(Lat. 46°56′49″ N., long. 124°08′57″ W.)

That airspace extending upward from 700 feet above the surface within a 4.0-mile radius of Bowerman Airport and within a 13-mile radius arc of the airport bounded on the north by a line 1.8 miles north of and parallel to the Hoquiam VORTAC 068° radial and on the south by a line 3 miles south of and parallel to the Hoquiam VORTAC 088° radial; that airspace extending upward from 1,200 feet above the surface beginning lat. 47°20′00″ N., long. 124 ° 40′00″ W.; thence to lat. 47°20′00″ N., long. 123°30′00″ W.; thence to lat. 46°30′00″ N., long. 123°30′00″ W.; thence to lat. 46°30′00″ N., long. 124°30′00″ W.; thence to lat. 47°00′00″ N., long. 124°39′00″ W.; thence to point of beginning.

* * * * *

Issued in Seattle, Washington, on August 2, 2007.
Clark Desing,
Manager, System Support Group, Western Service Center.

[FR Doc. E7-16490 Filed 8-22-07; 8:45 am]

BILLING CODE 4910-13-P